DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605, as amended November 6, 1995; as last amended at 77 FR 38071-38072 dated June 26, 2012).

This notice reflects organizational changes to the Health Resources and Services Administration. This notice updates the functional statement for the Healthcare Systems Bureau (RR) and the Bureau of Primary Health Care (RC). Specifically, this notice: (1) Transfers the Division of National Hansen's Disease Program from the Bureau of Primary Health Care (RC), to the Healthcare Systems Bureau (RR); and (2) updates the functional statement for the Office of the Associate Administrator Healthcare Systems Bureau (RR).

Chapter RR—Healthcare Systems Bureau

Section RR-10, Organization

Delete in its entirety and replace with the following:

The Healthcare Systems Bureau (RR) is headed by the Associate Administrator, who reports directly to the Administrator, Health Resources and Services Administration. The Healthcare Systems Bureau includes the following components:

(1) Office of the Associate Administrator (RR);

(2) Division of Transplantation (RR1);

(3) Division of Vaccine Injury Compensation (RR4);

(4) Office of Pharmacy Affairs (RR7);

(5) Division of Poison Control and Healthcare Facilities (RR9); and

(6) Division of National Hansen's Disease Program (RRH).

Section RR-20, Functions

(1) Delete the functional statement for the Office of the Associate Administrator (RR) and replace in its entirety; and (2) add the functional statement for the Division of National Hansen's Disease Program (RRH).

Office of the Associate Administrator (RR)

The Healthcare Systems Bureau leads the Agency in providing health care programs to eligible organizations around the country. Specifically, (1) Administers the Organ Transplantation Program to include the Organ Procurement and Transplantation Network to facilitate the allocation of donor organs to patients waiting for an organ transplant and the Scientific Registry of Transplant Recipients that provides analytic support to the Organ Procurement and Transplantation Network in the development and assessment of organ allocation and other Organ Procurement and Transplantation Network policies; (2) administers the C.W. Bill Young Cell Transplantation Program to increase the number of unrelated blood stem cell transplants and improve the outcomes of blood stem cell transplants; (3) administers the National Cord Blood Inventory to increase the number of high quality cord blood units available for transplantation; (4) develops and maintains a national program of grants and contracts to organ procurement organizations and other entities to increase the number of organs made available for transplantation; (5) manages the national program for compliance with the Hill-Burton uncompensated care requirement and other assurances; (6) directs and administers a congressionally-directed grant program for the construction/renovation/equipping of health care and other facilities; (7) directs and administers the National Vaccine Injury Compensation Program; (8) manages and promotes the 340B Drug Pricing Program; (9) directs and administers the Poison Center Support, Enhancement, and Awareness Act; (10) implements and administers the Countermeasures Injury Compensation Program under PREP Act authorities; and (11) manages the National Hansen's Disease Programs in accordance with regulations of the Public Health Service.

Division of National Hansen's Disease Program (RRH)

Manages the National Hansen's Disease Program in accordance with regulations of the Public Health Service. Specifically: (1) Provides care and treatment for persons with Hansen's disease, including managing a national outpatient health care delivery program; (2) conducts research and provides education and training on Hansen's disease; and (3) provides consultation to and coordinates activities within HRSA and HHS, and with other Federal agencies, State and local governments, and other public and private organizations involved in Hansen's disease activities.

Chapter RC—Bureau of Primary Health Care

Section RC-10, Organization

(1) Delete in its entirety and replace with the following:

The Bureau of Primary Health Care (RC) is headed by the Associate Administrator, who reports directly to the Administrator, Health Resources and Services Administration. The Bureau of Primary Health Care includes the following components:

(1) Office of the Associate Administrator (RC);

(2) Office of Administrative Management (RCM);

(3) Office of Training and Technical Assistance Coordination (RCS);

(4) Office of Policy and Program Development (RCH);

(5) Office of Quality and Data (RCK);

(6) Office of Special Population Health (RCG);

(7) Northeast Division (RCU);

(8) Central Southeast Division (RCV);

(9) North Central Division (RCT); and

(10) Southwest Division (RCW).

Section RC-20, Functions

(1) Delete the functional statement for the Office of the Associate Administrator (RC) and replace in its entirety.

Office of the Associate Administrator (RC)

Provides overall leadership, direction, coordination, and planning in support of BPHC programs. Specifically: (1) Establishes program goals, objectives and priorities, provides oversight to their execution; (2) plans, directs, coordinates and evaluates BPHC-wide management activities; and (3) maintains effective relationships within HRSA and with other Department of Health and Human Services (HHS) organizations, other Federal agencies, state and local governments, and other public and private organizations concerned with primary health care, eliminating health disparities, and improving the health status of the Nation's underserved and vulnerable populations.

Section RC-30, Delegations of Authority

All delegations of authority and re-delegations of authority made to HRSA officials that were in effect immediately prior to this reorganization, and that are consistent with this reorganization, shall continue in effect pending further re-delegation.

This reorganization is effective upon date of signature.

Dated: July 16, 2012.
Mary K. Wakefield,
Administrator.

[FR Doc. 2012-18897 Filed 8-1-12; 8:45 am]

BILLING CODE 4165-15-P